DEPARTMENT OF JUSTICE

Antitrust Division

Notice Pursuant to the National Cooperative Research and Production Act of 1993—Rapid Response Partnership Vehicle

Notice is hereby given that, on October 3, 2024, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, Biointelect Pty, Ltd., Sydney, AUSTRALIA; SPI Pharma, Inc., Wilmington, DE; Serimmune, Goleta, CA; UNITED KINGDOM HEALTH SECURITY AGENCY (UKHSA), Salisbury, UNITED KINGDOM; University of Connecticut, Farmington, CT; VGXI, Inc., Conroe, TX; ABSS Solutions, Inc., Upper Marlboro, MD; BiosYnth SRL, Milan, ITALY; Idevax, Wijnegem, BELGIUM; IntegerBio, Inc., Gaithersburg, MD; Phoreus Biotechnology, Inc., Olathe, KS; PrecNA, LLC, North Potomac, MD; Sepragen Corp., Union City, CA; Trellis Bioscience, Inc., Redwood City, CA; AB Validation, Inc., Quebec, CANADA; AuraVax Therapeutics, Inc., Houston, TX; CuriRx, Inc., Wilmington, MA; IMA Evaluations, LLC, dba IMA Clinical Research, Tarrytown, NY; MustardSeed PMO, West Chester, PA; Symbiosis.io, LLC, Smyrna, GA; Tornado Therapeutics, Boston, MA; Amneal Pharmaceuticals of New York, LLC, Brookhaven, NY; Blue Spark Technologies, Inc., Westlake, OH; Inhalon Biopharma, Inc., Morrisville, NC; Intelligene, Inc., Taipei, TAIWAN; Rocket Science Health US Corp., Seattle, WA; Rutgers, The State University of New Jersey, Piscataway, NJ; The Administrators of the Tulane Educational Fund, New Orleans, LA; Verisim Life, Inc., San Francisco, CA; Arcturus Therapeutics Holdings, Inc., San Diego, CA; Blu Zone Bioscience & Supply Chain Solutions, LLC, Frederick, MD; Elligo Health Research, Inc., Austin, TX; Guide Biomedical Solutions, LLC, Media, PA; Integral Molecular, Philadelphia, PA; Komo Biosciences, Inc., Newton, MA; P95, BV, Leuven, BELGIUM; Southwest Research Institute, San Antonio, TX; Statistics & Data Corp., Tempe, AZ; Stoic Bio, Inc., San Diego, CA; Valaria Technical Consultants, LLC, Westminster, MD; Vaxine Pty, Ltd., Marion, AUSTRALIA; Zeteo Biomedical, LLC, Austin, TX; Concept to Market, LLC, Monrovia, MD; DSBio Consulting, LLC, Annapolis, MD; Deimos Biosciences, San Francisco, CA; GMED North America, Inc., Rockville, MD; InvisiShield Technologies, Ltd., Emeryville, CA; MigVax, Ltd., Kiryat Shmona, ISRAEL; Polaris Alpha Advanced Systems, Inc., Fredericksburg, VA; Pop Test Oncology, LLC, Cliffside Park, NJ; Sapphiros, Boston, MA; Articulate Labs, Inc., Dallas, TX; Empatica, Inc., Cambridge, MA; LifeMine Therapeutics, Inc., Cambridge, MA; Luminous Therapeutics Corp., Columbia, MD; Nabla Bio, Inc., Cambridge, MA; Qoolabs, Inc., Carlsbad, CA; Rapid Novor, Inc., Kitchener, CANADA; Scorpius BioManufacturing, San Antonio, TX; Sunflower Therapeutics PBC, Medford, MA; GreenRoads Diagnostics, Inc., San Diego, CA; Logical Images, dba “VisualDx”, Rochester, NY; Mirai Biosciences, Cambridge, MA; The Scripps Research Institute, La Jolla, CA; AmplifyBio, LLC, West Jefferson, OH; Andelyn Biosciences, Inc., Columbus, OH; Binary Pharmaceuticals, LLC, Hot Springs, AR; BioCina PTY, Ltd., West Torrens, AUSTRALIA; Cypress Biologics, LLC, Portland, OR; Fermeate, Inc., San Francisco, CA; HMH Hospitals Corp, dba CDI, Nutley, NJ; Meso Scale Diagnostics, LLC, Rockville, MD; Systems & Technology Research, LLC, Woburn, MA; Telesis Bio, San Diego, CA; Thermo Fisher, South San Francisco, CA; University of Massachusetts Lowell, Lowell, MA; ViQi, Inc., Santa Barbara, CA; DemeTech Corp., Miami, FL; INFEX Therapeutics, Alderley Edge, UNITED KINGDOM; Mercury Bio, Inc., Santa Fe, NM; Phageolytix, Inc., Jacksonville, FL; Phenom Pharmaceuticals, LLC, Miami Beach, FL; RIBOPRO BV, Oss, NETHERLANDS; RNhale GmbH, Munich, GERMANY; The University of Chicago Medicine, Chicago, IL; Bioblue CMC/Manufacturing Consulting, LLC, San Diego, CA; Oligo Foundry, Inc., San Diego, CA; PNUVAX, Inc., Wilmington, DE; Prosoft Software, Inc., dba Prosoft Clinical, Chesterbrook, PA; Simon Williams Pharma Consulting (SWPC), LLC, Gibbsboro, NJ; Dillico, Meylan, FRANCE; INFINIFLUIDICS, Philadelphia, PA; Primrose Bio, Inc., San Diego, CA; SIMETRI, Inc., Winter Park, FL; The Trustees of the University of Pennsylvania, Philadelphia, PA; and WCG, Princeton, NJ, have been added as parties to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

The last notification was filed with the Department on July 11, 2024. The Department of Justice published a notice in the Federal Register pursuant to section 6(b) of the Act on October 11, 2024 (89 FR 82631).

Suzanne Morris,
Deputy Director Civil Enforcement Operations, Antitrust Division.

[FR Doc. 2024-30403 Filed 12-19-24; 8:45 am]

BILLING CODE P